DEPARTMENT OF THE INTERIOR

Bureau of Land Management

[LLCAD01000.223L1109AF.L12200000.FH0000.LXSSB0280000; MO#4500164048]

Notice of Temporary Annual Closure on Public Lands for the King of the Hammers Race, San Bernardino County, CA

AGENCY: Bureau of Land Management, Interior.

ACTION: Notice of temporary closure.

SUMMARY: As authorized under the provisions of the Federal Land Policy and Management Act of 1976, as amended, the Bureau of Land Management (BLM) is giving notice that certain public lands located near Johnson Valley, California, within the Johnson Valley Off-Highway Vehicle Recreation Area, will be temporarily closed to all public use to enhance public safety during Hammerking Productions' annual King of the Hammers desert race authorized under a 5-year Special Recreation Permit (SRP).

DATES: This action is in effect for a 10-day period in January and February each year from 2023 through 2027 for the King of the Hammers race. The race takes place annually from approximately the end of January through mid-February. The next King of the Hammers closure will take place February 2-12, 2023. The week prior to the race will be dedicated to set up and the building of the short course. The BLM will post the dates for King of the Hammers, the dates of the temporary closures, and a map of the closure area at the main entry points into the Johnson Valley Off-Highway Vehicle Recreation Area, the California Desert District Office, the Barstow Field Office, and on the BLM website at the addresses provided below every year at least 30 days prior to the events.

ADDRESSES: California Desert District, 1201 Bird Springs Drive, Palm Springs CA, 92262; Barstow Field Office, 2601 Barstow Road, Barstow CA, 92311; BLM website: www.blm.gov/california.

FOR FURTHER INFORMATION CONTACT: Dana Stephenson, Outdoor Recreation Planner, 300 South Richmond Rd, Ridgecrest, CA 93555, telephone: (760) 384-5429, email: dstephenson@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: This closure applies to all public use, including pedestrian use and vehicles. Over the 5-year SRP (beginning in 2023 and ending in 2027), the annual 10-day closure will comply with the management plan for the area, ensuring that a minimum of three staging areas within the Johnson Valley Off-Highway Vehicle Recreation Area remain open to the public every weekend (Saturday and Sunday) throughout the closure period.

Exclusive Use: During the 10-day closure period, the closure area will be for the exclusive use of King of the Hammers participants, registered spectators for the King of the Hammers, and other authorized users with an authorized SRP valid for activities within the closure area.

Exceptions: Closure restrictions do not apply to medical and rescue personnel in the performance of their official duties; official United States military and Federal, State, and local law enforcement; Federal, State, and local officers and employees in the performance of their official duties; King of the Hammers event officials and race participants; vendors with a valid BLM SRP; and registered event spectators.

Enforcement: Any person who violates the temporary closure order may be tried before a United States Magistrate and fined in accordance with 18 U.S.C. 3571, imprisoned no more than 12 months under 43 U.S.C. 1733(a) and 43 CFR 8360.0-7, or both. In accordance with 43 CFR 8365.1-7, State or local officials may also impose penalties for violations of California law.

(Authority: 43 CFR 8360.0-7 and 8364.1).

Michelle Lynch,
BLM California Desert District Manager.

[FR Doc. 2022-25169 Filed 11-17-22; 8:45 am]

BILLING CODE 4310-40-P